DEPARTMENT OF JUSTICE

Antitrust Division

Notice Pursuant to the National Cooperative Research and Production Act of 1993—Wireless Application Protocol Forum

Notice is hereby given that, on April 3, 2000, pursuant to section 6(a) of the National Cooperative Research and Production Act of 1993, 15 U.S.C. 4301 et seq. (“the Act”), Wireless Application Protocol Forum (“WAP”) has filed written notifications simultaneously with the Attorney General and the Federal Trade Commission disclosing changes in its membership status. The notifications were filed for the purpose of extending the Act's provisions limiting the recovery of antitrust plaintiffs to actual damages under specified circumstances. Specifically, ACE*COMM Corporation, Gaithersburg, MD; Add2Phone Ltd., Helsinki, FINLAND; Algorithmic Research Ltd., Petach-Tikva, ISRAEL; Altis Consulting Ltd, Thatcham, Berks, England, UNITED KINGDOM; America Online, Incorporated, Dulles, VA; American Express TRS Co., Inc., New York, NY; Andersen Consulting, Chicago, IL; ASP Global Ltd., Salford, England, UNITED KINGDOM; BarPoint.com, Fort Lauderdale, FL; Basic Sic Integration, LLC, Palo Alto, CA; Bell Mobility, Mississauga, Ontario, CANADA; Bidhit.com, Inc., Bothell, WA; BrainDock.com, New York, NY; Business Objects, Levallois Perret, FRANCE; Categoric Software Limited, Surbiton, Surrey, England, UNITED KINGDOM; Citigroup, Los Angeles, CA; Compaq Computer Corporation, Houston, TX; Convergys, Cincinnati, OH; Copernicus Limited, London, England, UNITED KINGDOM; Critical Path, Inc., San Francisco, CA; CT Motion, Rosh Ha'ayin, ISRAEL; Dansk Data Elektronik A/S, Herlev, DENMARK; DataChannel, Inc., Bellvue, WA; DataDesign AG, Munich, GERMANY; Datalink.net., Inc., San Jose, CA; Dialogue Communications Limited, Sheffield, South Yorkshire, England, UNITED KINGDOM; E-Plus Mobilfunk GmbH, Dusseldorf, GERMANY; EC-Gate NV, Toronto, Ontario, CANADA; Ecash Technologies, Inc., Bothell, WA; EDS e.Solutions Europe and Africa, Zaventem, Brussels, BELGIUM; ESRI, Inc., Redlands, CA; EuroTel Praha, spol.s.r.o., Praha, CZECH REPUBLIC; Extensity, Inc., Emeryville, CA; F5 Networks, Seattle, WA; Fenestrae B.V., JR Leioschenoam, THE NETHERLANDS; First Data Corporation, Coral Springs, FL; Go2Systems, Inc., Irvine, CA; GroupServe, Inc., Washington, DC; I-Group, Hingham, MA; In Fusio, Bordeaux, FRANCE; and Inktomi Corporation, Foster City, CA; International Computers Ltd., Helsinki, FINLAND; iobox Oy, Helsinki, FINLAND; IONA Technologies, Inc., Waltham, MA; Ionic Microsystems Pvt. Ltd., Bangalore, INDIA; JP Systems, Inc., Dallas, TX; KachinaNet.com, Fremont, CA; Kenwood Corp., Kanagawa, JAPAN; Lava2140, Los Angeles, CA; Ludi WAP S.A., Paris, FRANCE; Luminant Worldwide Corporation, Dallas, TX; Macalla Software Ltd., Dublin, IRELAND; MapInfo Corporation, Windsor, Berks, England, UNITED KINGDOM; Mercator Software, Wilton, CT; MobileID, Inc., Los Gatos, CA; MobileWay, Puteaux, FRANCE; Mobilocity, Brooklyn, NY; Mosaic Software, Rondebosch, SOUTH AFRICA; MSC Konsult AB, Dandergd, SWEDEN; MTDS Oy, Espoo, FINLAND; MyWay.com, Andover, MA; NARUS, Inc., Palo Alto, CA; NCC Services, Ltd., Manchester, England, UNITED KINGDOM; netdecisions Limited, London, England, UNITED KINGDOM; Netlife AG, Hamburg, GERMANY; NetLight Consulting AB, Solna, SWEDEN; Network Appliance, Inc., Sunnyvale, CA; Nocom AB, Uppsala, SWEDEN; Northstream AB, Sollentuna, SWEDEN; Novell, San Jose, CA; Nuforia, Inc, Houston, TX; Nvision, Bracknell, England, UNITED KINGDOM; Objectsoft, Inc., Chicago, IL; OnDisplay, Inc., San Ramon, CA; Oven Digital, Inc., New York, NY; Pervasive Software Inc., Austin, TX; Phone Online, Inc., Knoxville, TN; Plumtree Software, Inc., San Francisco, CA; PocketMail Group Limited, Sydney, New South Wales, AUSTRALIA; Radguard Ltd., Tel Aviv, ISRAEL; Rage Software PLC, Liverpool, England, UNITED KINGDOM; Rare Medium Inc., New York, NY; ReadyCom, Inc., Chapel Hill, NC; Readcall Ltd., London, England, UNITED KINGDOM; Seagull Business Software, Dordrecht, THE NETHERLANDS; Sendo Limited, Birmingham, England, UNITED KINGDOM; Sensei Ltd, Aylesbury, Bucks, England, UNITED KINGDOM; Servicesoft Technologies, Natick, MA; Sinia Corporation, Mountain View, CA; SkyTel Communications, Jackson, MS; Slangsoft, Jerusalem, ISRAEL; Software.Com, Inc, Santa Barbara, CA; Speedia, Llc, Brooklyn, NY; STM Wireless, Inc, Irvine, CA; Surrey & City Consulting, Sutton, Surrey, England, UNITED KINGDOM; Tegaron Telematics GmbH, Bonn, GERMANY; Telecommunications Systems, Inc., Annapolis, MD; Telemig Celular Participacoes S.A., Brasilia, BRAZIL; Telsim Mobile Telekomunikayson, Istanbul, TURKEY; The Edge Consultants Pte Ltd, Singapore, SINGAPORE; Tietotekniikkayhtio Tieturi Oy, Helsinki, FINLAND; TrustLink AB, Stockholm, SWEDEN; TTP Communications Ltd, Royston, Hertfordshire, England, UNITED KINGDOM; Ubizen, Leuven, BELGIUM; US West, Denver, CO; UUNet Technologies Inc., Ashburn, VA; Vasco Data Security, Wemmel, BELGIUM; Viafone, Redwood City, CA; Vitria Technology, Inc., Sunnyvale, CA; Webtiss Technologies, Paris, FRANCE; Worldzap, Zug, SWITZERLAND; Xcert International, Inc., Walnut Creek, CA; ZKEY.Com, Los Angeles, CA; and Zsigo Wireless Training, East Lansing, MI have been added as parties to this venture.

No other changes have been made in either the membership or planned activity of the group reserach project. Membership in this group research project remains open, and WAP intends to file additional written notifications disclosing all changes in membership.

On March 18, 1998, WAP filed its original notification pursuant to section 6(a) of the Act. The Department of Justice published a notice in the Federal Register pursuant to section 6(b) of the Act on December 31, 1998 (63 FR 72333).

The last notification was filed with the Department on January 13, 2000. A notice was published in the Federal Register pursuant to section 6(b) of the Act on June 29, 2000 (65 FR 40133).

Constance K. Robinson,
Director of Operations, Antitrust Division.

[FR Doc. 01-7774 Filed 3-28-01; 8:45 am]

BILLING CODE 4410-11-M